DEPARTMENT OF AGRICULTURE

Submission for OMB Review; Comment Request

April 3, 2020.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding these information collections are best assured of having their full effect if received by May 11, 2020. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Soil Health in Texas.

OMB Control Number: 0535-0264.

Summary of Collection: The primary objectives of the National Agricultural Statistics Service (NASS) are to prepare and issue official State and national estimates of crop and livestock production, disposition and prices, economic statistics, and environmental statistics related to agriculture and to conduct the Census of Agriculture and its follow-on surveys. NASS will conduct a survey of select agricultural operations with land operated in the 28 counties of the Brazos River Watershed of Texas. Each selected farmer or rancher will be asked to provide data on (1) Selected soil management practices of the whole field, (2) Selected soil management practices of the selected field, (3) Scenario questions on tillage preferences, and (4) Likert questions on tillage preferences. General authority for these data collection activities is granted under U.S.C. Title 7, Section 2204.

Need and Use of the Information: The information will be summarized and compared against the hypotheses for the Brazos River Watershed:

1. The greater the belief that no-till is useful, the greater an individual's intention to adopt or have adopted no-till.

2. The greater the attitudes that no-till necessary, the greater an individual's intention to adopt or have adopted no-till.

3. The greater the social pressure to adopt no-till, the more likely an individual's intention to adopt or have adopted no-till.

4. The greater the sense of obligation to adopt no-till, the greater an individual's intention to or have adopted no-till.

5. The greater the perceived risk of adopting no-till, the less likely an individual's intention or have adopted no-till.

6. The greater an individual's confidence in their ability to adopt no-till or adopting no-till, the greater their intention to adopt or continue to use no-till.

7. The greater an individual's trust in information from other producers or organizations, the greater their intention to adopt or have adopted no-till.

Description of Respondents: A sample of all active agricultural operations in a defined twenty-eight county region in the State of Texas, Brazos Valley Watershed. The sample includes producers who reported conservation practices on the 2017 Census of Agriculture, as well as those that do not use conservation practices.

Number of Respondents: 2,900.

Frequency of Responses: Reporting: Once a year.

Total Burden Hours: 468.

Ruth Brown,
Departmental Information Collection Clearance Officer.

[FR Doc. 2020-07429 Filed 4-8-20; 8:45 am]

BILLING CODE 3410-20-P